DEPARTMENT OF TRANSPORTATION

Office of the Secretary

[Docket Number: DOT-OST-2023-0097]

Rural and Tribal Assistance Pilot Program

AGENCY: Build America Bureau, Department of Transportation.

ACTION: Notice of funding opportunity (NOFO), assistance listing #20.943.

SUMMARY: The Infrastructure Investment and Jobs Act, also known as the Bipartisan Infrastructure Law or BIL, created the Rural and Tribal Assistance Pilot Program (the Program) to provide early-stage development assistance for rural and tribal infrastructure projects. The Program will award grants for either the hiring of staff or the procurement of expert firms to provide financial, technical, and legal assistance; assistance with development-phase activities; and information regarding innovative financing best practices and case studies. Entities eligible for award include rural local governments or political subdivisions, states, Tribes, and the Department of Hawaiian Home Lands. The Build America Bureau (Bureau) will administer the Program. This Notice of Funding Opportunity (NOFO) makes $3.4 million available for awards under the Program. Assistance will be provided in the form of direct monetary grants for recipients to hire staff or procure advisory assistance. Procurements for and contracts with grantee-contracted advisors procured for this award must comply with the requirements set forth in the Uniform Administrative Requirements, Cost Principles, and Audit Requirements for Federal Awards, as further described below.

SUPPLEMENTARY INFORMATION: Each section of this notice contains information and instructions relevant to the application process for the Program. All applicants should read this notice in its entirety so that they have the information they need to submit eligible applications.

Table of Contents

A. Program Description

B. Federal Award Information

C. Eligibility Information

D. Application and Submission Information

E. Application Review Information

F. Federal Award Administration Information

G. Federal Awarding Agency Contacts

H. Other Information

A. Program Description

The Infrastructure Investment and Jobs Act (Pub. L. 117-58) is a generational investment in the nation's transportation system. Section 21205 of Division B of the BIL (Rural and Tribal Infrastructure Advancement) creates a pilot program to provide grants to fund financial, technical, and legal assistance to states and rural and tribal communities. The grants are intended to augment organizational capacity in communities that may not have resources available to evaluate and develop projects that qualify for federal funding and financing programs.

This notice makes available a total of $3.4 million of funding for the first round of the Program, which is composed of funding appropriated for both Fiscal Years 2022 and 2023. Individual awards are expected to range from $150,000 up to the statutory limit of either $320,000 for FY 2022 funds or $360,000 for FY 2023 funds.¹ There is no local funding match required to participate in this Program.

¹ The BIL limits awards to any individual state to 20% of available funds for a single fiscal year. Therefore, the Department may make awards of up to $320,000 with FY 2022 funds and up to $360,000 with FY 2023 funds. See additional information in Section B below regarding the maximum award amount.

The following is a sample list of tasks that would be eligible to be funded through the Program. This list is intended to serve as an example, and is not all-inclusive:

Financial services | Technical services | Legal services
Revenue forecasting | Project planning | Statutory and regulatory framework analysis
Economic assessments and cost-benefit analyses | Feasibility studies | Drafting and negotiation of concession agreements
Value for money analysis and procurement options | Environmental review and permitting | Drafting and negotiation of interagency agreements
Evaluating opportunities for private financing and project bundling Financial feasibility analysis; funding and financing options analysis Evaluation of costs to sustain the project (such as operations and maintenance costs) | Preliminary engineering and design Funding application assistance Public engagement Property development and land use feasibility analysis Public Benefit Studies Cost estimation | Procurement support

The intent of this Program is to advance transportation infrastructure projects in rural and tribal communities by supporting development-phase activities for projects reasonably expected to be eligible for certain USDOT credit and grant programs. However, there is no requirement for grantees to apply for other funding programs in the future.

The Department's Strategic Goals are Safety, Economic Strength and Global Competitiveness, Equity, Climate and Sustainability, Transformation, and Organizational Excellence.² The Bureau strongly encourages applicants to reflect these values in work funded under this Program and include consideration of the extent to which the proposed project may address the unique challenges rural and tribal communities face relative to these goals. Many projects may later be candidates for USDOT discretionary grants, which place considerable emphasis on these strategic goals. Considering the Strategic Goals early in project development will be very helpful in preparing for future discretionary grant applications.

² FY 2022-26 USDOT Strategic Plan: https://www.transportation.gov/dot-strategic-plan.

B. Federal Award Information

This notice makes available a total of $3.4 million of funding for the first two years of the five-year Program (Fiscal Years 2022 and 2023). Individual awards are expected to range from $150,000 up to the program limit of $360,000. Actual amounts awarded will be based on the needs of each grantee and available funding. No more than twenty percent of available funds for a single fiscal year may be awarded for projects in a single state in this round of funding, capping the total award amount within any state—and, therefore, any single grant—at $320,000 for FY 2022 funds and $360,000 for FY 2023 funds. Therefore, grant requests greater than $320,000 will be considered only for FY 2023 funds; they will not be eligible to compete for FY 2022 funds. In order to be considered under the full funding amount available of $3.4 million, the grant request may not exceed $320,000.

Eligible applications will be reviewed, and grants will be provided, on a first-come, first-served basis as described in Section E. Application reviews will conclude once the full $3.4 million has been awarded. A non-Federal match is not required to participate in this Program.

Under this Program, it is anticipated that there will be a round of funding each fiscal year until FY 2026, with progressively more funding available each year. Each round of funding will be announced in a separate Notice of Funding Opportunity. Information about future funding opportunities will be available on the Bureau's website: Transportation.gov/BuildAmerica/RuralandTribalGrants.

The Department intends to issue grants to enable recipients to: (1) acquire the services of independent financial, technical, and legal advisors,³ or (2) hire staff, in each case to provide development-phase assistance. A table providing examples of services for which recipients can hire staff or procure expert firms using awards under the Program is shown in Section A above.

³ The procurement of, and contract for, advisors procured to provide services funded by this award must meet the requirements set forth in 2 CFR 200.317-327 and 2 CFR 200.459, including 2 CFR part 200 appendix II.

Participation in this Program does not commit the recipient to apply for federal financial assistance programs in the future, nor does it confer extra consideration if the recipient applies in the future for additional funds for the same project.

Information on how to apply for the Program is found in Section D of this notice.

C. Eligibility Information

Applicants wishing to receive grants through this Program should submit applications to demonstrate:

• They are an eligible applicant under this Program, as described in Section C.1;

• The project(s) for which grant funding is being requested are otherwise eligible for funding or financing through the other USDOT programs described in Section C.3; and

• The proposed tasks are appropriate and stated cost(s) are adequate for the project(s) identified.

1. Eligible Applicants

Applicants for the Program must be one of the following:

i. a unit of local government or political subdivision that is located outside of an urbanized area ⁴ with a population of more than 150,000 residents as determined by the Bureau of the Census;

⁴ Urbanized area listing should be drawn from the 2020 Census results. For 2020 Census results, visit: https://www.census.gov/programs-surveys/geography/guidance/geo-areas/urban-rural.html.

ii. a state seeking to advance a project in an area located outside of an urbanized area with a population of more than 150,000 residents as determined by the Bureau of the Census;

iii. a federally recognized Indian Tribe; or

iv. the Department of Hawaiian Home Lands.

2. Cost Sharing or Matching

There is no requirement for cost sharing or matching the grant funds in this Program.

3. Eligible Projects

Per the Program's requirements, projects receiving assistance under this Program must be reasonably expected to be eligible for any one or more of the Department's lending or grant programs described below. Because this Program provides assistance for development-phase activities, we anticipate that many projects may be in such early development phases that project costs, funding streams, delivery methods, and even the project descriptions themselves may not be fully formed. The Bureau will determine whether the project(s) proposed can reasonably be eligible for any of the programs discussed below to meet this funding Program's requirements. These applicable programs are TIFIA, RRIF, INFRA, RAISE, Mega, and the National Culvert Removal, Replacement, and Restoration Grant Program. Brief program descriptions, program links, and examples of projects eligible under each of these programs are shown below:

TIFIA Credit Program: http://www.transportation.gov/buildamerica/financing/tifia.

The Transportation Infrastructure Finance and Innovation Act (TIFIA) Program provides credit assistance to finance up to 49 percent of eligible project costs for qualified projects, including:

• Highway and bridge projects;

• Public transportation projects;

• International bridges and tunnels;

• Intercity passenger bus or rail facilities and vehicles;

• Freight rail projects and intermodal freight transfer facilities;

• Certain projects located within the boundaries of a port terminal;

• Transit-oriented development projects; and

• Airport projects.

Minimum Anticipated Project Costs

• $10 million for transit-oriented development, local, and rural projects;

• $15 million for intelligent transportation system projects; and

• $50 million for all other eligible surface transportation projects.

RRIF Credit Program: http://www.transportation.gov/buildamerica/financing/rrif.

The Railroad Rehabilitation & Improvement Financing (RRIF) Program provides credit assistance to finance development of railroad infrastructure up to 100 percent of eligible project costs, including:

• Intermodal or railroad equipment or facilities;

• Landside port infrastructure for seaports serviced by rail;

• Refinancing of outstanding debt incurred for the above eligible projects;

• Planning, permitting, and design expenses relating to the above eligible projects; and

• Transit-oriented development projects.

Minimum Anticipated Project Costs

• There is no minimum project cost for the RRIF Program.

INFRA Grant Program: www.transportation.gov/grants/infra-grants-program.

INFRA (known statutorily as the Nationally Significant Freight & Highway Projects Program) awards competitive grants for multimodal freight and highway projects of national or regional significance to improve the safety, efficiency, and reliability of the movement of freight and people in and across rural and urban areas, including:

• Highway freight projects on the National Highway Freight Network (NHFN);

• Highway or bridge projects on the National Highway System;

• Freight intermodal project or freight rail projects;

• Freight projects that are within the boundaries of a public or private freight rail, water (including ports), or intermodal facility and are surface transportation infrastructure projects necessary to facilitate direct intermodal interchange, transfer, or access into or out of the facility;

• Highway-railway grade crossing or grade separation projects;

• Wildlife crossing projects;

• Surface transportation projects within the boundaries or functionally connected to an international border crossing that improves a facility owned by federal/state/local government and increases throughput efficiency; and

• Projects for a marine highway corridor that is functionally connected to the NHFN and is likely to reduce road mobile source emissions.

Minimum Anticipated Project Costs

• Small projects must have a total project cost of at least $6.25 million.

Mega Grant Program: http://www.transportation.gov/grants/mega-grant-program.

The Mega Program (known statutorily as the National Infrastructure Project Assistance Program) supports large, complex projects that are difficult to fund by other means and likely to generate national or regional economic, mobility, or safety benefits, including:

• Highway or bridge projects on the National Multimodal Freight Network;

• Highway or bridge projects on the NHFN;

• Highway or bridge projects on the National Highway System;

• Freight intermodal (including public ports) or freight rail projects that provide public benefit;

• Railway highway grade separation or elimination projects;

• Intercity passenger rail projects; and

• Public transportation projects that are eligible for assistance under 49 U.S.C. Chapter 53 and are a part of any of the project types described above.

Minimum Anticipated Project Costs

• $100 million.

RAISE Grant Program: www.transportation.gov/RAISEgrants.

The Rebuilding American Infrastructure with Sustainability and Equity, or RAISE, Discretionary Grant Program awards investments in surface transportation infrastructure that will have a significant local or regional impact. Eligible projects include:

• Capital projects including but not limited to:

○ Highway, bridge, or other road projects eligible under title 23, United States Code;

○ Public transportation projects eligible under chapter 53 of title 49, United States Code;

○ Passenger and freight rail transportation projects;

○ Port infrastructure investments (including inland port infrastructure and land ports of entry);

○ Surface transportation components of an airport;

○ Intermodal projects;

○ A project to replace or rehabilitate a culvert or prevent stormwater runoff for the purpose of improving habitat for aquatic species while advancing the goals of the RAISE program;

○ Projects investing in surface transportation facilities that are located on tribal land and for which title or maintenance responsibility is vested in the federal government; and

○ Any other surface transportation infrastructure project that the Secretary considers to be necessary to advance the goals of the program.

• Planning projects which include planning, preparation, or design (for example—environmental analysis, feasibility studies, and other pre-construction activities) of eligible surface transportation capital projects.

National Culvert Removal, Replacement, and Restoration Grant Program: https://www.fhwa.dot.gov/engineering/hydraulics/culverthyd/aquatic/culvertaop.cfm.

This program awards grants for the replacement, removal, and repair of culverts or weirs that meaningfully improve or restore fish passage for anadromous fish. Anadromous fish migrate upstream for breeding. Eligible project types include:

• Replacement, removal, or repair of culverts that would meaningfully improve or restore fish passage for anadromous fish.

• Replacement, removal, or repair of weirs that would meaningfully improve or restore fish passage for anadromous fish. With respect to weirs, the project may include—

• infrastructure to facilitate fish passage around or over the weir; and weir improvements

D. Application and Submission Information

1. Address To Request Application Package

Grant application materials, including the web-based application, can be accessed at Transportation.gov/BuildAmerica/RuralandTribalGrants. Applicants must use the web-based application form to submit their applications. Potential applicants may also request paper copies of materials for review at:

Telephone: (202) 366-4114.

Mail: U.S. Department of Transportation, 1200 New Jersey Avenue SE, W84-322, Washington, DC 20590.

General information for submitting applications can be found at Transportation.gov/BuildAmerica/RuralandTribalGrants.

2. Content and Form of Application Submission

i. Proposal Submission

Email, mail, and fax submissions will not be accepted. The web-based application form available at Transportation.gov/BuildAmerica/RuralandTribalGrants must be submitted electronically for grant funding consideration. Applicants should contact the Bureau in advance of the application deadline if they are experiencing issues submitting their application due to internet connectivity. Failure to submit the information as requested can disqualify the application.

The Rural and Tribal Assistance Pilot Program web-based application form includes guidance and provides a consistent format for applicants to respond to the criteria outlined in this notice. One web-based form must be submitted for each project being proposed under the Program. The maximum number of applications an applicant can submit is three. Unless indicated as optional, the application must include responses to all sections of the application form. The application will be used to determine applicant and project eligibility for the Program and the appropriateness of the proposed tasks and grant amount being requested by the applicant.

Applicants must fill in all fields unless stated otherwise on the form. Applicants should not place “N/A” in lieu of typing in responses in the field sections—except on questions where “N/A” is stated as an acceptable response. If information is copied into the web-based application form from another source, applicants should verify that the pasted text is fully captured and has not been truncated by the character limits built into the form. Complete instructions on the application process along with contact information for assistance with application submission and clarification on application questions can be found at Transportation.gov/BuildAmerica/RuralandTribalGrants. Compliance with all applicable federal laws and regulations must be accounted for.

ii. Application Content

The web-based application form will prompt applicants for required information, including, but not limited to, the following:

(a) Name of the applicant and type of applicant.

(b) Contact information including: Contact name, title, address, phone number, and email address.

(c) UEI (Unique Entity Identifier). If the applicant is not yet registered in SAM.gov, the applicant must be registered prior to submitting an application. A UEI will be issued free of charge upon registration. If the applicant is already registered in SAM.gov but has not received a UEI, the applicant can request one in SAM.gov.

(d) Project Title: Provide a brief, descriptive title of the project; e.g., “Widening of X Street from Avenue 1 to Avenue 7 in Y Community in Z State.”

(e) Project Location: Provide a description of the location of the project with enough identifiers that the Application Review Team can locate the project area using publicly-available map services.

(f) Project Description: Describe the overall project, including project type, features to be constructed, an estimate of the overall project cost, and a project schedule. If applicable, applicants should describe any anticipated overall project benefits such as increasing affordable transportation options, improving safety, connecting Americans to good-paying jobs, fighting climate change, or improving access to resources and quality of life.

(g) Appropriateness of Requested Services: (1) Describe in detail the task(s) to be completed with this Program funding, stating how these task(s)/services will materially advance the overall project. Include the estimated cost of the task(s) and the amount of Program funding requested. (2) Describe the project-related development activities already completed, and list data or information collected or activities conducted that are necessary for completing the task(s) funded through this Program.

(h) Viability of Requested Services: (1) If procuring advisory services, describe relevant experience procuring such services. For both the hiring of staff and procurement of advisory services, note if there will be additional funding committed to the project. Cite the source of the local funding commitment and the amount of local funding. (2) Confirm if a bid, quote, or estimate has been obtained for the proposed task(s).

3. Unique Entity Identifier and System for Award Management (SAM)

Each applicant must have completed the registration process on SAM.gov to establish its registration and obtain a valid Unique Entity Identifier (UEI) prior to submitting their application.

In addition, each applicant must continue to maintain an active SAM registration with current information at all times during which it has an active federal award or an application or plan under consideration by a federal awarding agency. The Department may not make a grant to an applicant until the applicant has complied with all applicable unique entity identifier and SAM requirements and, if an applicant has not fully complied with the requirements by the time the Department is ready to make a grant, the Department may determine that the applicant is not qualified to receive a grant and use that determination as a basis for making a grant to another applicant.

4. Submission Dates and Timelines

After the application window opens, applications will be reviewed on a rolling (first-come, first-served) basis until available funding is expended or this notice is superseded by another notice. The application window will open on August 14, 2023, 60 days after publication of this notice. The link to the web-based application form on Transportation.gov/BuildAmerica/RuralandTribalGrants will open on August 14, 2023 and will remain open until July 31, 2023, a period of 45 days. As progress of completing the web-based application form cannot be saved and must be completed in a single session, a pdf version of the application form will be available at Transportation.gov/BuildAmerica/RuralandTribalGrants when this funding announcement is published. Funding may be fully committed before the application open period concludes. The Bureau will hold NOFO information session(s) before the application window opens. Information on these information sessions and other program updates will be available on Transportation.gov/BuildAmerica/RuralandTribalGrants.

5. Intergovernmental Review

Applications under this NOFO are not subject to the state review under E.O. 12372.

6. Funding Restrictions

Up to $3.4 million of funding is being made available during this round of funding. Funding for this Program come from funds made available to provide credit assistance under the TIFIA program, but are limited to $1.6m for fiscal year 2022 and $1.8m for fiscal year 2023. No more than 20 percent of available funds may be awarded to projects in a single state in any one fiscal year. This requirement results in a capping of the total award amount within any state—and therefore, any single grant—at $320,000 for awards made from Fiscal Year 2022 funds and $360,000 for awards made from Fiscal Year 2023 funds. Therefore, grant requests greater than $320,000 will be considered only for FY 2023 funds; they will not be eligible to compete for FY 2022 funds. In order to be considered under the full funding amount available of $3.4 million, the grant request may not exceed $320,000.

$1.6 million of Program funds ($800,000 from each Fiscal Year) will be set aside for grants to tribal entities. Any of the funds set aside for this purpose that are not allocated within one month of the application close date will be allocated to any type of qualified applicant based on the order in which applications were received.

Expenses incurred prior to signature of the grant agreement are not eligible for reimbursement under this Program unless prior authorization is obtained from the Bureau in writing.

All procurements for, and contracts with, grantee-contracted advisors procured under this award must comply with the requirements set forth in 2 CFR 200.317-327 and 2 CFR 200.459, including 2 CFR part 200 appendix II.

7. Other Submission Requirements

To prepare for proposal submission, applicants should begin the process of registering with the System Award for Management (SAM) at www.sam.gov to obtain a valid Unique Entity Identifier (UEI). All registrations are free of charge. Please note that SAM.gov's registration process can take multiple weeks to complete.

8. Consideration of Application

The Bureau will perform a compliance check of all received applications to ensure the application is complete and submitted in accordance with the NOFO instructions. Only eligible applicants who comply with all submission instructions described in this notice and submit applications through Transportation.gov/BuildAmerica/RuralandTribalGrants will be considered for award.

E. Application Review Information

The application review and selection process is outlined below. After the application window opens, grants will be made on a first-come, first-served basis. Eligible applicants are encouraged to submit applications as early as possible once the application period opens as applications will be reviewed in the order in which they are received.

1. Criteria

Applications deemed complete and eligible will be evaluated based on the two below criteria to determine the likelihood that the requested service(s) will materially advance the project and that the funds requested are likely to be sufficient to complete the task(s) and deliverable(s) identified in the application. Applications that are rated “Meets” in both criteria below will be recommended to the Under Secretary of Transportation for Policy for funding in the order they are received.

i. Criterion (1): Appropriateness of services requested: The Application Review Team will assess whether and to what extent the proposed tasks will materially advance the overall project identified in the application. The Application Review Team will consider:

• the current state of the project's development,

• whether the proposed tasks are appropriate for the current state of the project's development, and

• the likelihood that the requested services will materially advance the project's development.

The goal of this assessment is to ensure that the proposed tasks are appropriate for the project's current state of development and will have a material impact on the project's overall development. The rating categories are outlined in the table below.

Rating | Appropriateness criterion | Example
Does Not Meet | Requested services are either not helpful in advancing the project(s) or not appropriate for the project in its current state of development | The services requested are not necessary or appropriate for the project's ultimate funding, financing, and delivery; The project description does not provide information on the overall project's need or specific challenges it will address; or The services requested would require information or data that is not yet available because other activities, such as cost estimating, design, or market studies would be needed prior to procuring the requested services, and the applicant has not described a reasonable plan to complete those activities before receiving services.
Meets | Likely to advance the project(s) | It is reasonably likely that the services requested will demonstrably advance the project; or It is probable that the necessary information or data needed for this task is available at this point in the project(s) development.

ii. Criterion (2): Viability of grant funds requested: The Application Review Team will assess whether and to what extent the funding package (made up of funding requested through this Program and local funding commitment, if any) is likely to result in fully funding and completing the specified task(s) while also providing the deliverable(s) necessary to materially advance the project(s). The Team will consider:

• for applicants seeking to procure advisory services: whether the applicant has obtained bids or quotes for the requested services, and the applicant's experience procuring advisory services in the past,

• for applicants seeking to hire staff for this task: their organization's hiring process (i.e. do they have a defined job description for this task, process for recruitment), and

• the source and amount of funding the applicant intends to commit (if any) as a contribution to the overall cost of the services being proposed. (The addition of local funding will not influence the rating of this criterion).

The goal of this assessment is to ensure that the funding plan, including the funding requested in the application, and the staffs' experience in procuring advisory services or efficiency in hiring staff are adequate to complete the task(s) proposed and to achieve the deliverable(s) necessary to advance the project.

Rating | Viability criterion | Example
Does Not Meet | It is either unclear or unlikely that the funding package ⁵ is appropriate for completing the task(s) and deliverable(s) identified in the application | There is little or no evidence that the applicant has (a) either previous procurement experience or an efficient process for hiring staff, (b) the capacity to estimate the cost for the services identified in the application, or (c) obtained a reasonable estimate or quote for the services identified; or The funding package, to include any local funding contribution, will not produce a completed task(s) or deliverable(s) identified in the application.
Meets | It is likely that the funding package⁵ is appropriate for completing the task(s) and deliverable(s) identified in the application | The applicant has provided evidence sufficient to determine that it is likely that it has the experience or capacity to accurately estimate the services identified in the application; or The applicant has provided sufficient cost estimates or quotes to conclude that it is likely the funding requested will result in a completed task(s) or deliverable(s) identified in the application.

2. Review and Selection Process

⁵ The funding package is made up of the funding requested through this Program and the local funding commitment, if any.

An Application Review Team composed of Department staff will screen applications in the order they are received. This initial review will cover completeness (see Section D for more information), eligibility of the applicant (see Section C.1), and the eligibility of the project(s) being proposed (see Section C.3).

For those applications deemed complete and eligible, the Application Review Team will review them based on criteria shown in Section E.1 above. Applications that receive “Meets” for both scoring criteria will be recommended for award to the Under Secretary of Transportation for Policy, along with the recommended grant amount, which may be less than the requested grant amount. Recommended grant amounts could differ from the requested grant amount due to the availability of grant funding remaining. Among recommended applications, awards will be made on a first-come, first-served basis (implemented based on the day and time the application is received by USDOT) until available funding is exhausted. If multiple recommended applications are received on the same day, they will be reviewed in the order they were received, as noted by the timestamp given to applications when they are submitted.

3. Integrity and Performance System Reporting

USDOT, prior to making an award under this Program with a total amount of federal share greater than the simplified acquisition threshold of $250,000, is required to review and consider any information about the applicant that is in the designated integrity and performance system accessible through SAM (currently FAPIIS) (see 41 U.S.C. 2313).

An applicant, at its option, may review information in the designated integrity and performance systems accessible through SAM and comment on any information about itself that a federal awarding agency previously entered and is currently in the designated integrity and performance system accessible through SAM.

USDOT will consider any comments by the applicant, in addition to the other information in the designated integrity and performance system, in making a judgment about the applicant's integrity, business ethics, and record of performance under federal awards when completing the review of risk posed by applicants as described in 2 CFR 200.206.

F. Federal Award Administration Information

1. Federal Award Notices

The Bureau will provide applicants that submitted a complete application for a grant under this Program with a notice describing whether the application is approved or disapproved no later than 60 days after the date on which a complete application was received.

Not later than 30 days after the above notification, if the application is disapproved, the Bureau will offer a written or telephonic debrief to provide an explanation of, and guidance regarding, the reasons why the application was not approved.

The Bureau will publish an online report, updated monthly, that includes information on applications received, entity type, location of the potential project, a brief description of the assistance requested, the date on which the application was received, and the date on which the applicant was provided the notice of approval or disapproval. Applicants to the Program must agree to publication of this information as a condition of applying.

Selected applications will be formalized through the development of a grant agreement between the grantee and the Bureau. Grants are reimbursable, meaning that the recipient will be reimbursed after-the-fact for agreed-upon eligible expenses as set forth in the grant agreement. The recipient may request reimbursement from the Government on a monthly basis for eligible expenses incurred. Expenses incurred prior to signature of the grant agreement are not eligible for reimbursement under this Program, unless prior authorization is obtained from the Bureau in writing.

2. Administration and National Policy Requirements

Performance under this Program will be governed by and in compliance with the following requirements as applicable to the type of organization of the recipient and any applicable sub-recipients.

It is the policy of USDOT to reflect Administration priorities and incorporate criteria related to climate change and sustainability, racial equity including environmental justice, critical infrastructure security and resilience, Title VI and other federal Civil Rights laws, and barriers to opportunity, labor, and workforce in its grant programs, to the extent possible and consistent with law. Considering the Strategic Goals early in project development will be very helpful in preparing for future discretionary grant applications. As such, in developing grant agreements with grantees, the Bureau will work to incorporate these Strategic Goals in project development activities under this Program.

All awards will be administered pursuant to the Uniform Administrative Requirements, Cost Principles and Audit Requirements for Federal Awards found in 2 CFR part 200, as adopted by USDOT at 2 CFR part 1201.

In connection with any program or activity conducted with or benefiting from funds awarded under this notice, recipients of funds must comply with all applicable requirements of federal law, including, without limitation, the Constitution of the United States statutory, regulatory, and public policy requirements, including without limitation, those protecting free speech, religious liberty, public welfare, the environment, and prohibiting discrimination; the conditions of performance, non-discrimination requirements, and other assurances made applicable to the award of funds in accordance with regulations of the Department of Transportation; and applicable federal financial assistance and contracting principles promulgated by the Office of Management and Budget. In complying with these requirements, recipients must ensure that no concession agreements are denied, or other contracting decisions made on the basis of speech or other activities protected by the First Amendment. If the Bureau determines that a recipient has failed to comply with applicable federal requirements, the Bureau may terminate the award of funds and disallow previously incurred costs, requiring the recipient to reimburse any expended award funds.

As a condition of grant award, grant recipients may be required to participate in an evaluation undertaken by DOT or another agency or partner. The evaluation may take different forms such as an implementation assessment across grant recipients, an impact and/or outcomes analysis of all or selected sites within or across grant recipients, or a benefit/cost analysis or assessment of return on investment. DOT may require applicants to collect data elements to aid the evaluation and/or use information available through other reporting. As a part of the evaluation, as a condition of award, grant recipients must agree to: (1) make records available to the evaluation contractor or DOT staff; (2) provide access to program records, and any other relevant documents to calculate costs and benefits; (3) in the case of an impact analysis, facilitate the access to relevant information as requested; and (4) follow evaluation procedures as specified by the evaluation contractor or DOT staff.

Recipients and subrecipients are also encouraged to incorporate program evaluation including associated data collection activities from the outset of their program design and implementation to meaningfully document and measure their progress towards meeting an agency priority goal(s). Title I of the Foundations for Evidence-Based Policymaking Act of 2018 (Evidence Act), Public Law 115-435 (2019) urges Federal awarding agencies and Federal assistance recipients and subrecipients to use program evaluation as a critical tool to learn, to improve equitable delivery, and to elevate program service and delivery across the program lifecycle. Evaluation means “an assessment using systematic data collection and analysis of one or more programs, policies, and organizations intended to assess their effectiveness and efficiency.” 5 U.S.C. 311. Credible program evaluation activities are implemented with relevance and utility, rigor, independence and objectivity, transparency, and ethics (OMB Circular A-11, Part 6 Section 290).

For grant recipients receiving an award, evaluation costs are allowable costs (either as direct or indirect), unless prohibited by statute or regulation, and such costs may include the personnel and equipment needed for data infrastructure and expertise in data analysis, performance, and evaluation. (2 CFR part 200).

3. Reporting

Accepting an award commits the recipient to participation in reporting and oversight of the project. This section discusses reporting requirements of the Program.

i. Periodic Reporting

Grantees will be required to make regular reports to the Bureau contracting officer and technical representatives. Exact reporting requirements will be articulated in the grant agreement. Monthly progress meetings or calls are expected to be held, during which the Bureau will review project activities, schedule, and progress toward mutually agreed upon performance targets. Written reports are also expected, likely on a quarterly basis.

In addition to regular reporting, each grant recipient Program must submit a grant closeout report as set forth in the grant agreement to ensure accountability and financial transparency in the Program.

ii. Performance Reporting of Advisor Performance

Each applicant selected for grant funding must collect and report to the Bureau information on the status of the services funded with this grant award. The specific performance information and reporting period will be determined on an individual basis and will be reflected in each grant agreement.

iii. Advisor Approval

All procurements and contracts for grantee-contracted advisors procured for this award to must comply with the requirements set forth in 2 CFR 200.317-327 and 2 CFR 200.459, including 2 CFR part 200 appendix II. Failure to comply with the part 200 requirements regarding contractors and failure to obtain written approval prior to subcontracting may result in costs being deemed ineligible for reimbursement.

iv. Reporting of Matters Related to Recipient Integrity and Performance

If the total value of a selected applicant's currently active grants, cooperative agreements, and procurement contracts from all federal awarding agencies exceeds $10,000,000 for any period of time during the period of performance of this federal award, then the applicant during that period of time must maintain the currency of information reported to the SAM that is made available in the designated integrity and performance system (currently FAPIIS) about civil, criminal, or administrative proceedings. This is a statutory requirement under section 872 of Public Law 110-417, as amended (41 U.S.C. 2313). As required by section 3010 of Public Law 111-212, all information posted in the designated integrity and performance system on or after April 15, 2011, except past performance review required for federal procurement contracts, will be publicly available.

G. Federal Awarding Agency Contacts

For further information concerning this notice, please contact the Bureau via email at RuralandTribalTA@dot.gov or call Susan Wilson at 202-366-0765. A TDD is available for individuals who are deaf or hard of hearing at 202-366-3993. In addition, the Bureau will post answers to questions and requests for clarifications on the Bureau's website at Transportation.gov/BuildAmerica/RuralandTribalGrants. To ensure applicants receive accurate information about eligibility or the Program in general, the applicant is encouraged to contact the Bureau directly, rather than through intermediaries or third parties, with questions. Bureau staff will also conduct briefings on the Program grant selection and award process upon request.

H. Other Information

1. Protection of Confidential Business Information

All information submitted as part of or in support of any application shall use publicly available data or data that can be made public and methodologies that are accepted by industry practice and standards, to the extent possible.

2. Publication/Sharing of Application Information

As noted previously, and required by statute, the Bureau will publish an online monthly report that includes, for each application received, entity type, location of the potential project, a brief description of the assistance requested, the date on which the application was received, and the date on which the applicant was provided the notice of approval or disapproval.

Except for the information properly marked as described in Section H.1, the Bureau may make application information publicly available or share it within USDOT or with other federal agencies if USDOT determines that sharing is relevant to the respective Program's objectives.

Issued in Washington, DC on June 9th, 2023.
Morteza Farajian,
Executive Director.

[FR Doc. 2023-12774 Filed 6-14-23; 8:45 am]

BILLING CODE P